SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for new information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, New Executive Building, Room 10235, 725 17th St., NW., Washington, DC 20503, Fax: (202) 395-6974.

(SSA), Social Security Administration, DCFAM, Attn: Reports Clearance Officer, 1338 Annex Building, 6401 Security Blvd., Baltimore, MD 21235, Fax: (410) 965-6400.

I. The information collections listed below are pending at SSA and will be submitted to OMB within 60 days from the date of this notice. Therefore, your comments should be submitted to SSA within 60 days from the date of this publication. You can obtain copies of the collection instruments by calling the SSA Reports Clearance Officer at (410) 965-0454 or by writing to the address listed above.

1. Statement of Agricultural Employer (Years prior to 1988); Statement of Agricultural Employer (1988 and Later)—0960-0036. The information on Forms SSA-1002 and SSA-1003 is used by the Social Security Administration (SSA) to resolve discrepancies when farm workers have alleged that their employers did not report their wages or reported them incorrectly. The respondents are agricultural employers.

Type of Request: Extension of an OMB-approved information collection.

| No. of respondents | Frequency of response | Average burden per response (minutes) | Estimated annual burden
SSA-1002 | 75,000 | 1 | 10 | 12,500
SSA-1003 | 50,000 | 1 | 30 | 25,000
Total | 25,000 |  |  | 37,500

2. Representative Payee Evaluation Report—20 CFR 404.2065 and 416.665—0960-0069. The information on form SSA-624 is used by SSA to accurately account for the use of Social Security benefits and Supplemental Security Income payments received by representative payees on behalf of an individual. The respondents are individuals and organizations who received form SSA-623 or SSA-6230 and failed to respond, provided unacceptable responses that could not be resolved or reported a change in custody.

Type of Request: Extension of an OMB-approved information collection.

Number of Respondents: 252,000.

Frequency of Response: 1.

Average Burden per Response: 30 minutes.

Estimated Average Burden: 126,000 hours.

3. Authorization for the Social Security Administration to Obtain Account Records from a Financial Institution—20 CFR416.200 and 416.203—0960-0293. Form SSA-4641-U2 provides financial institutions with the customer's authorization to disclose records. Responses to the questions are used, in part, to determine whether resource requirements are met in the Supplemental Security Income program. The respondents are financial institutions (banks, savings and loans, credit unions, etc.).

Type of Request: Extension of an OMB-approved information collection.

Number of Respondents: 500,000.

Frequency of Response: 1.

Average Burden per Response: 6 minutes.

Estimated Annual Burden: 50,000 hours.

4. Agency/Employer Government Pension Offset Questionnaire—20 CFR 404-408a—0960-0470. The information collected by form SSA-L4163 provides SSA with accurate information from the agency paying a claimant's pension. This form is only used when (1) the claimant does not have the necessary information and (2) the pension-paying agency has not cooperated with the claimant in providing this information. Respondents are Federal, State, or local government agencies that have information needed by SSA to determine whether the Government Pension Offset provisions apply and if so, what is the amount of the offset.

Type of Request: Extension of an OMB-approved information collection.

Number of Respondents: 1,000.

Frequency of Response: 1.

Average Burden Per Response: 3 minutes.

Estimated Annual Burden: 50 hours.

5. Request for Correction of Earnings Record—20 CFR 404.820 and 422.125—0960-0029. Form SSA-7008 is used by individual wage earners to request SSA review, and, if necessary, correction of the Agency's master record of their earnings. The respondents are individuals who question SSA's record of their earnings.

Type of Request: Extension of an OMB-approved information collection.

Number of Respondents: 37,500.

Frequency of Response: 1.

Average Burden Per Response: 10 minutes.

Estimated Annual Burden: 6,250 hours.

6. Beneficiary Recontact Report—20 CFR 404.703 and 404.705—0960-0536. SSA collects the information on Form SSA-1587 to ensure that eligibility for benefits continues after entitlement is established. SSA asks representative payees of children ages 15-17 information about marital status to detect possible overpayments and avoid continuing payment to those no longer entitled. Studies show that the representative payees of children who marry often fail to report the marriage, which is a terminating event. The respondents are payees who receive Title II (Old-Age, Survivors and Disability Insurance) benefits on behalf of children ages 15-17.

Type of Request: Extension of an OMB-approved information collection.

Number of Respondents: 982,357.

Frequency of Response: 1.

Average Burden Per Response: 3 minutes.

Annual Burden: 49,118.

7. Waiver of Your Right to Personal Appearance Before an Administrative Law Judge—0960-0284—20 CFR 404.948(b)(l)(i) and 416.1448(b)(l)(i). Each claimant has a statutory right to appear in person (or through a representative) and present evidence about his/her claim at a hearing before an Administrative Law Judge (ALJ). If a claimant wishes to waive his/her statutory right to appear before an ALJ, he/she must complete a written request. The claimant may use Form HA-4608 for this request. The information collected is used to document an individual's claim to show that an oral hearing is not preferred in the appellate process. The respondents are applicants for Social Security and Supplemental Security Income benefits who request a hearing.

Type of Request: Extension of an OMB-approved information collection.

Number of Respondents: 12,000.

Frequency of Response: 1.

Average Burden Per Response: 2 minutes.

Estimated Annual Burden: 400 hours.

II. The information collections listed below have been submitted to OMB for clearance. Your comments on the information collections would be most useful if received by OMB and SSA within 30 days from the date of this publication. You can obtain a copy of the OMB clearance packages by calling the SSA Reports Clearance Officer at (410) 965-0454, or by writing to the address listed above.

1. Request for Waiver of Overpayment Recovery or Change in Repayment Notice—20 CFR 404.502-404.515 and 20 CFR 416.550-416.570—0960-0037. Form SSA-632 collects information on the circumstances surrounding overpayment of Social Security Benefits to recipients. SSA uses the information to determine whether recovery of an overpayment amount can be waived or must be repaid and, if repaid, how recovery will be made. The respondents are recipients of Social Security, Medicare or Supplemental Security Income overpayments.

Type of Request: Extension of an OMB-approved information collection.

Number of Respondents: 500,000.

Frequency of Response: 1.

Average Burden Per Response: 120 minutes.

Estimated Annual Burden: 1,000,000 hours.

2. Certificate of Responsibility for Welfare and Care of Child Not in Applicant's Custody—20 CFR 404.330 and 404.339—0960-0019. SSA uses the information collected on form SSA-781 to decide if “in care” requirements are met by the non-custodial parent who is filing for benefits based on having a child in care. The respondents are non-custodial wage earners whose entitlement to benefits depends upon having an entitled child in care.

Type of Request: Extension of an OMB-approved information collection.

Number of Respondents: 14,000.

Frequency of Response: 1.

Average Burden Per Response: 10 minutes.

Estimated Annual Burden: 2,333 hours.

3. Application for Benefits Under the Italy-U.S. International Social Security Agreement—20 CFR 404.1925—0960-0445. The information collected on Form SSA-2528 is required by SSA in order to determine entitlement to benefits. The respondents are applicants for old-age, survivors or disability benefits, who reside in Italy.

Type of Request: Extension of an OMB-approved collection.

Number of Respondents: 200.

Frequency of Response: 1.

Average Burden Per Response: 20 minutes.

Estimated Annual Burden: 67 hours.

4. Real Property Current Market Value Estimate—0960-0471. The SSA-L2794 is used to obtain current market value estimates of real property owned by applicants for, or beneficiaries of, Supplemental Security Income payments (or a person whose resources are deemed to such an individual). The value of an individual's resources, including non-home real property is one of the eligibility requirements for SSI payments. The respondents are individuals with knowledge of local real property values.

Type of Request: Extension of an OMB-approved information collection.

Number of Respondents: 5,438.

Frequency of Response: 1.

Average Burden Per Response: 20 minutes.

Estimated Annual Burden: 1,813 hours.

Dated: May 27, 2004.
Elizabeth A. Davidson,
Reports Clearance Officer, Social Security Administration.

[FR Doc. 04-12505 Filed 6-2-04; 8:45 am]

BILLING CODE 4191-02-P